DEPARTMENT OF HEALTH AND HUMAN SERVICES

Agency for Toxic Substances and Disease Registry

[60Day-21-0062; Docket No. ATSDR-2021-0002]

Proposed Data Collection Submitted for Public Comment and Recommendations

AGENCY: Agency for Toxic Substances and Disease Registry (ATSDR), Department of Health and Human Services (HHS).

ACTION: Notice with comment period.

SUMMARY: The Agency for Toxic Substances and Disease Registry (ATSDR), as part of its continuing effort to reduce public burden and maximize the utility of government information, invites the general public and other Federal agencies the opportunity to comment on a proposed and/or continuing information collection, as required by the Paperwork Reduction Act of 1995. This notice invites comment on “Supplemental Measurements for Exploratory Research Regarding Exposure During Activities Conducted on Synthetic Turf Fields with Tire Crumb Rubber Infill.” The purpose of the proposed study is to evaluate and characterize human exposure potential to polyaromatic hydrocarbons during play on synthetic turf fields with tire crumb rubber infill.

DATES: ATSDR must receive written comments on or before April 13, 2021.

ADDRESSES: You may submit comments, identified by Docket No. ATSDR-2021-0002 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. ATSDR will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Supplemental Measurements for Exploratory Research Regarding Exposure During Activities Conducted on Synthetic Turf Fields with Tire Crumb Rubber Infill (OMB Control No. 0923-0062, Exp. 10/31/2021)—Extension—Office of Community Health and Hazard Assessment (OCHHA), Agency for Toxic Substances and Disease Registry (ATSDR).

Background and Brief Description

ATSDR is requesting a two-year extension for the research study, titled “Supplemental Measurements for Exploratory Research Regarding Exposure During Activities Conducted on Synthetic Turf Fields with Tire Crumb Rubber Infill.” (OMB Control No. 0923-0062, Expiration date 10/31/2021). ATSDR is seeking Paperwork Reduction Act (PRA) clearance to extend the data collection period due to delays encountered with the 2020 COVID-19 pandemic.

Currently in the United States, there are more than 12,000 synthetic turf fields in use. While the Synthetic Turf Council has set guidelines for the content of crumb rubber used as infill in synthetic turf fields, manufacturing processes result in differences among types of crumb rubber. Additionally, the chemical composition may vary highly between different processes and source materials and may vary even within granules from the same origin.

The Research protocol, Collections Related to Synthetic Turf Fields with Crumb Rubber Infill, has been conducted previously under two information collection requests (ICRs): Activity 1 under OMB Control No. 0923-0054 (Expiration Date 01/31/2017) and Activities 2 and 3 under OMB Control No. 0923-0058 (Expiration Date 08/13/2018), which were limited to collections from August to October, 2017. Activities 2 and 3 aim to evaluate and characterize the human exposure potential to constituents in crumb rubber infill among a convenience sample of 60 field users (Activity 2) and to collect biological specimens (blood and urine) from 45 participants (Activity 3). Due to the limited enrollment and collection period, the target Activity 2 and Activity 3 samples sizes were not met in 2017.

The current request seeks to conduct supplemental measurements to expand the exploratory analysis conducted under OMB Control No. 0923-0058. The current request allows for further investigation of patterns observed in the preliminary data from the 2017 pilot-scale exposure measurements of individuals playing on synthetic turf fields with crumb rubber infill and collecting data from a small number of individuals who are playing on grass fields.

In December 2020, ATSDR submitted a change request to OMB to incorporate COVID-19 prevention and protection measures. The COVID-19 prevention and protection measures will be implemented before data collection begins this spring. The current study is a larger-scale supplemental assessment of exposure potential for individuals who use/play on synthetic turf fields with tire crumb rubber infill.

The study includes persons who use synthetic turf with crumb rubber infill (e.g., facility users) and who routinely perform activities that would result in a high level of contact to crumb rubber. The study also includes persons who use natural grass fields. This allows for evaluation of potential high-end exposures to constituents in synthetic turf among this group of users and for comparison to individuals who do not play on synthetic turf fields with tire crumb rubber infill. The respondents are administered a detailed questionnaire on activity patterns on synthetic turf with crumb rubber infill. This instrument allows ATSDR to characterize exposure scenarios, including the nature and duration of potential exposures. Additionally, we are collecting urine samples pre- and post-activity. The urine samples will be analyzed for polyaromatic hydrocarbons and then archived for future analysis.

There are no changes to the instruments, the total burden hours, or the total number of respondents. The research study aims to screen a total of 220 participants for eligibility. The sample size for synthetic turf field users is 150, and 50 for the natural grass field users. The total burden hours for the research study is 184 hours among all of the 220 respondents. There is no cost to the respondents other than their time in the study.

Estimated Annualized Burden Hours
Type of respondents | Form name | Number of respondents | Number of responses per respondent | Avg. burden per response (in hrs.) | Total burden (in hr.)
Adult/Adolescent Facility Users | Eligibility Screening Script Adult and Adolescent Questionnaire | 110 100 | 1 1 | 5/60 30/60 | 9 50
| Exposure Measurement Form | 100 | 1 | 20/60 | 33
Parents/Guardians of Youth/Child Facility Users | Eligibility Screening Script Youth and Child Questionnaire | 110 100 | 1 1 | 5/60 30/60 | 9 50
Youth/Child Facility Users | Exposure Measurement Form | 100 | 1 | 20/60 | 33
Total |  |  |  |  | 184

Jeffrey M. Zirger,
Lead, Information Collection Review Office, Office of Scientific Integrity, Office of Science, Centers for Disease Control and Prevention.

[FR Doc. 2021-02949 Filed 2-11-21; 8:45 am]

BILLING CODE 4163-18-P